DEPARTMENT OF AGRICULTURE

Agricultural Marketing Service

7 CFR Part 205

[Document Number AMS-NOP-12-0034; NOP-12-11]

Implementation of National Organic Program (NOP); Sunset Review (2012) Amendments to Pectin on the National List of Allowed and Prohibited Substances

AGENCY: Agricultural Marketing Service, USDA.

ACTION: Final rule; notice of implementation period.

SUMMARY: On June 6, 2012, AMS published a final rule to address substances due to sunset from the U.S. Department of Agriculture's National List of Allowed and Prohibited Substances (National List) in 2012. This final rule amended two listings for pectin on the National List effective June 27, 2012.

DATES: Based upon new information from the organic industry, AMS is informing operations certified to the USDA organic regulations that AMS will allow operations to reformulate their products until October 21, 2012.

SUPPLEMENTARY INFORMATION: The Organic Foods Production Act of 1990 (OFPA) (7 U.S.C. 6501-6522) authorizes the establishment of the National List of Allowed and Prohibited Substances (National List). The National List identifies synthetic substances that may be used in organic production and nonsynthetic (natural) substances that are prohibited in organic crop and livestock production. The National List also identifies nonagricultural nonsynthetic, nonagricultural synthetic and nonorganic agricultural substances that may be used in organic handling.

On June 6, 2012, AMS published a final rule (77 FR 33290) addressing multiple exemptions due to sunset from the National List in 2012. Based on the comments received, AMS finalized the amendments to pectin as proposed. In an effort to streamline the sunset dates for over 200 listings for substances on the National List and in consideration of the comments on the proposed rule that supported the proposed changes to pectin, AMS determined that the changes to pectin should be included among the amendments and renewals effective on the earliest sunset date, June 27, 2012, for all substances due to expire in 2012.

After publication of the final rule on June 6, 2012, AMS received new information from industry that some organic processors are currently using amidated, non-organic pectin in their products. The industry indicated that these processors would need time to reformulate these products using either non-amidated, non-organic pectin (if organic pectin is not commercially available), or organic pectin in accordance with the changes codified through the final rule. In response to this information, AMS now understands that some product reformulation is necessary.

The amendments to pectin are effective on June 27, 2012. However, AMS considers a period until October 21, 2012, the original sunset date in 2012 for the pectin listings, to be reasonable and appropriate for the industry to reformulate products in order to ensure that the amendments are effectively and rationally implemented. AMS will conduct outreach to the industry and training for certifying agents as appropriate.

Authority: 7 U.S.C. 6501-6522.

Dated: June 22, 2012.
David R. Shipman,
Administrator, Agricultural Marketing Service.

[FR Doc. 2012-15904 Filed 6-26-12; 11:15 am]

BILLING CODE P